DEPARTMENT OF AGRICULTURE

Agricultural Marketing Service

[Docket # AMS-FV-2006-0201; FV-06-314]

United States Standards for Grades of Parsley

AGENCY: Agricultural Marketing Service, USDA.

ACTION: Notice.

SUMMARY: The Agricultural Marketing Service (AMS) of the Department of Agriculture (USDA) is soliciting comments on its proposal to revise the United States Standards for Grades of Parsley. AMS is proposing to revise the standards to allow percentages to be determined by count rather than weight. AMS is also proposing to eliminate the unclassified category. The proposed revisions would bring the standards for parsley in line with current marketing practices, thereby improving the usefulness in serving the industry.

DATES: Comments must be received by February 26, 2007.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, E-mail: FPB.DocketClerk@usda.gov. Comments should make reference to the dates and page number of this issue of the Federal Register and will be made available for public inspection in the above office during regular business hours. The United States Standards for Grades of Parsley are available either through the address cited above or by accessing the AMS, Fresh Products Branch Web site at: http://www.ams.usda.gov/standards/stanfrfv.htm.

FOR FURTHER INFORMATION CONTACT: Cheri L. Emery, at the above address or call (202) 720-2185; E-mail: Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA, AMS, Fruit and Vegetable Programs.

AMS is proposing to revise the voluntary United States Standards for Grades of Parsley using procedures that appear in Part 36, Title 7 of the Code of Federal Regulations (7 CFR part 36). These standards were last published on July 30, 1930.

Background

Prior to undertaking research and other work associated with revision of the grade standards, AMS published a notice in the Federal Register (71 FR 41755) on July 24, 2006, soliciting comments on the possible revision to the United States Standards for Grades of Parsley.

In response to our request for comments, AMS received one comment from an industry group representing receivers. The comment is available by accessing AMS's Fresh Products Branch Web site at: http://www.ams.usda.gov/fv/fpbdocketlist.htm. The commenter was in favor of the proposed revision to allow the percentages for tolerances and defects to be determined by count rather than weight, and further stated that as for the “Unclassified” category, some members requested that it be preserved, while others did not. However, this section is being removed in all standards when they are revised, as this category is not a grade and it only serves to show that no grade has been applied to the lot. It is no longer considered necessary. Therefore, AMS will eliminate the “Unclassified” category.

The proposed revision will allow percentages for tolerances and defects to be determined by count rather than weight. Currently, parsley is packed and marketed by count and weight. Taking into account these marketing practices, this proposal will bring the standards for parsley in line with current marketing practices, thereby, improving the usefulness of the standards in serving the industry.

The official grade of a lot of parsley covered by these standards is determined by the procedures set forth in the Regulations Governing Inspection, Certification, and Standards of Fresh Fruits, Vegetables and Other Products (Sec. 51.1 to 51.61).

This notice provides for a 60-day comment period for interested parties to comment on the proposed changes to the United States Standards for Grades of Parsley.

Authority: 7 U.S.C. 1621-1627.

Dated: December 19, 2006.
Lloyd C. Day,
Administrator, Agricultural Marketing Service.

[FR Doc. E6-22048 Filed 12-22-06; 8:45 am]

BILLING CODE 3410-02-P